DEPARTMENT OF THE INTERIOR

Bureau of Land Management

[LLWO250000.L12200000.PM0000; OMB Control Number 1004-0165]

Information Collection; Cave Management: Cave Nominations and Confidential Information

AGENCY: Bureau of Land Management, Interior.

ACTION: 30-day notice and request for comments.

SUMMARY: The Bureau of Land Management (BLM) has submitted an Information Collection Request to the Office of Management and Budget (OMB) for a 3-year extension of OMB Control Number 1004-0165 under the Paperwork Reduction Act. The information covered in this request is necessary to implement two provisions of the Federal Cave Resources Protection Act (FCRPA)—one which requires Federal agencies to consult with interested parties to develop a listing of significant caves, and another under which Federal and State governmental agencies and bona fide educational and research institutions may request confidential information regarding significant caves.

DATES: The OMB is required to respond to this information collection request within 60 days but may respond after 30 days. Therefore, written comments should be received on or before August 13, 2009.

ADDRESSES: You may submit comments directly to the Desk Officer for the Department of the Interior (OMB #1004-0165), Office of Management and Budget, Office of Information and Regulatory Affairs, fax 202-395-5806, or by electronic mail at oira_docket@omb.eop.gov.

Please mail a copy of your comments to: BLM Information Collection Clearance Officer (WO-630), Department of the Interior, 1849 C Street, NW., Mail Stop 401 LS, Washington, DC 20240.

You may also send a copy of your comments by electronic mail to jean_sonneman@blm.gov.

FOR FURTHER INFORMATION CONTACT: James Goodbar, Senior Cave and Karst Resources Specialist, at 505-234-5929 (Commercial or FTS). You may also contact Mr. Goodbar to obtain, at no cost, a copy of the information collection request.

SUPPLEMENTARY INFORMATION: Title: Cave Management: Cave Nominations and Confidential Information (43 CFR part 37).

OMB Number: 1004-0165.

Form Numbers: None.

Abstract: The information covered in this Information Collection Request applies to caves on Federal lands administered by the Bureau of Land Management (BLM), National Park Service, U.S. Fish and Wildlife Service, and Bureau of Reclamation. The BLM collects information from appropriate private sector interests, including “cavers,” in order to update a list of significant caves that are under the jurisdiction of the agencies listed above. The BLM also processes requests for confidential information regarding significant caves. The information collected enables the BLM to comply with the Federal Cave Resources Protection Act (16 U.S.C. 4301-4310).

60-Day Notice: On November 20, 2008, the BLM published a 60-day notice (73 FR 70364) requesting comments on the proposed information collection. The comment period ended January 20, 2009. No comments were received.

Current Action: This proposal is being submitted to extend the expiration date of July 31, 2009.

Type of Review: 3-year extension.

Affected Public: Individuals and households.

Obligation to Respond: Voluntary.

Estimated Number of Annual Responses: 90 cave nominations; 10 requests for confidential information.

Estimated Time per Response: 12 hours for cave nominations; 1 hour for requests for confidential information.

Estimated Total Annual Burden Hours: 1,090 hours.

The BLM may not conduct or sponsor an information collection, and respondents are not required to respond to an information collection, unless the information collection displays a currently valid OMB control number. As part of the approval process, we invite comments on the following information collection. Comments should address one or more of the following points:

(1) Whether the collection of information is necessary for the proper functioning of the BLM, including whether the information will have practical utility;

(2) The accuracy of the BLM's estimate of the burden of the information collection, including the validity of the methodology and assumptions used;

(3) The quality, utility, and clarity of the information collected; and

(4) How to minimize the information collection burden on those who are to respond, including the use of appropriate automated, electronic, mechanical, or other forms of information technology.

Please send comments to the addresses listed under ADDRESSES. Please refer to OMB control number 1004-0165 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Bureau of Land Management, Acting Information Collection Clearance Officer.

[FR Doc. E9-16550 Filed 7-13-09; 8:45 am]

BILLING CODE 4310-84-P